NUCLEAR REGULATORY COMMISSION

10 CFR Chapter I

[NRC-2021-0113]

RIN 3150-AK65

Miscellaneous Corrections; Correction

AGENCY: Nuclear Regulatory Commission.

ACTION: Final rule; correction.

SUMMARY: The U.S. Nuclear Regulatory Commission (NRC) is correcting a final rule that was published in the Federal Register on August 9, 2021. The rule amended NRC's regulations to make miscellaneous corrections, remove outdated reporting requirements, clarify language, add metric units, and insert missing language. This action is necessary to correct inadvertent errors in the final rule.

DATES: The correction takes effect on August 24, 2021.

ADDRESSES: Please refer to Docket ID NRC-2021-0113 when contacting the NRC about the availability of information for this action. You may obtain publicly-available information related to this action by any of the following methods:

• Federal Rulemaking Website: Go to https://www.regulations.gov and search for Docket ID NRC-2021-0113. Address questions about NRC dockets to Dawn Forder; telephone: 301-415-3407; email: Dawn.Forder@nrc.gov.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to pdr.resource@nrc.gov.

• Attention: The PDR, where you may examine and order copies of public documents, is currently closed. You may submit your request to the PDR via email at pdr.resource@nrc.gov or call 1-800-397-4209 between 8:00 a.m. and 4:00 p.m. (EST), Monday through Friday, except Federal holidays.

FOR FURTHER INFORMATION CONTACT: Dawn Forder, Office of Nuclear Material Safety and Safeguards, U.S. Nuclear Regulatory Commission, Washington, DC 20555-0001; telephone: 301-415-3407, email: Dawn.Forder@nrc.gov.

SUPPLEMENTARY INFORMATION: In the Federal Register of August 9, 2021, in FR Doc. 2021-16662, the following corrections are made:

1. On page 43398, in the first column, in SUPPLEMENTARY INFORMATION, under the heading II. Summary of Changes, under 10 CFR Part 2, the paragraph is corrected to read “Correct Spelling. This final rule amends §§ 2.911(a), 2.1023(b) introductory text, and 2.1026(b)(1) to correct the spelling of “preceeding” to “proceeding,” “respository” to “repository,” and “unforseen” to “unforeseen.” ”

2. On page 43398, in the second column, under 10 CFR Part 35, the third paragraph is corrected to read “Correct Phrase. This final rule amends § 35.57(b)(2) to correct the phrase “or a permit issued by a Commission master material license of broad scope on or before October 24, 2005,” to “or a permit issued in accordance with a Commission master material broad scope license on or before October 24, 2005,”.”

3. On page 43398, in the third column, under 10 CFR Part 70, the second paragraph is corrected to read “Correct References. This final rule amends § 70.32 to update references to the United States Code by amending paragraph (a)(9)(i)(B) by removing “11 U.S.C. 101(14)” and adding in its place `'11 U.S.C. 101(15)”, and amending paragraph (a)(9)(i)(C) by removing “11 U.S.C. 101(a)” and adding in its place `'11 U.S.C. 101(2)”.”

4. On page 43399, under the heading IX. Agreement State Compatibility, in the third column, the last paragraph, the first sentence is corrected to read “The portions of this final rule that amend 10 CFR parts 20, 32, 35, 37, and 70 are a matter of compatibility between the NRC and the Agreement States, thereby providing consistency among Agreement State and NRC requirements, and are listed in the following table.”

5. On page 43399, in the table, the first entry is corrected to read

Compatibility Table
Section | Change | Subject | Compatibility: Existing | Compatibility: New
Part 20
§ 20.2207(h) | Remove | Reports of transactions involving nationally tracked sources | B

6. On page 43401, in the third column, instruction 12c is corrected to read “c. In paragraphs (f)(2) and (3), remove “OPM's” and add in its place “DCSA's”.”

7. On page 43402, in the first column, instruction 19 is corrected to read “19. In § 35.57(b)(2), remove the phrase “or a permit issued by a Commission master material license of broad scope on or before October 24, 2005,” and add in its place the phrase “or a permit issued in accordance with a Commission master material broad scope license on or before October 24, 2005,”.”

Dated: August 19, 2021.
For the Nuclear Regulatory Commission.
Cindy K. Bladey,
Branch Chief, Regulatory Analysis and Rulemaking Support Branch, Division of Rulemaking, Environmental, and Financial Support, Office of Nuclear Material Safety and Safeguards.

[FR Doc. 2021-18156 Filed 8-23-21; 8:45 am]

BILLING CODE 7590-01-P